DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period March 20, 2003-April 22, 2003
Firm name | Address | Date petition accepted | Product
Copper River Fine Seafood, Inc. dba Copper River Seafoods | 1 Cannery Row, Cordova, AK 99574 | 03/24/03 | Salmon.
LaRocca's Seafood Specialties, Inc | P.O. Box 725, Half Moon Bay | 04/15/03 | Seafood processing—salmon, trout, sturgeon, scallops, albacore and black cod.
Sandhill Packing Company, LLC | 800 West Cotta Road, Lodi, CA 95242 | 04/02/03 | Asparagus.
SEM-COM Company, Inc | 1040 North Westwood Avenue, Toledo, OH 43607 | 03/28/03 | Specialty glass.
Ace Wire Spring & Form, Inc | 1105 Thompson Avenue, Mckees Rocks, PA 15136 | 04/02/03 | Custom designed machined springs and clips.
Aarubco Rubber Co., Inc | 259 2nd Street, Saddle Brook, NJ 07663 | 04/09/03 | Rubber covered belts, rollers and other rubber molded products and specialty items.
Manor Tool and Manufacturing Company | 9200 Ivanhoe Street, Schiller Park, IL 60176 | 04/02/03 | Stamped, machined, and fabricated metal components for the auto, furniture, hand tools and telecommunications and railroad industries.
DJC Design Studio, Inc | 227 Sheep Davis Road, Concord, NH 03301 | 04/02/03 | Throws, pillows, bed coverings and apparel and accessories.
Contract Glass Service, Inc | 225 Andover Street, Wilmington, MA 01887 | 04/01/03 | Tempered glass for residential and commercial applications.
Ronlo Engineering LTD, Inc | 955 Flynn Road, Camarillo, CA 93012 | 04/02/03 | Precision hydraulic components for aerospace and oil field industries.
TP Cycle and Engineering, Inc | 5 Francis J. Clark Circle, Bethel, CT 06801 | 03/28/03 | V-twin and other motorcycle engines and parts.
Lorax, Inc | 2588 Island View Lane, Lummi Island, WA 98262 | 04/02/03 | Salmon.
Port City Plate, Inc. dba Por City Metal Services | 3101 Charles Page Boulevard, Tulsa, OK 74127 | 04/14/03 | Fabricated steel industrial heat exchange units.
Stanek Tool Corporation | 2500 S. Calhoun Road, New Berlin, WI 53151 | 04/02/03 | Fixtures for metalworking machine tools.
Stanley Engineering Co., Inc | 180-F Penrod Court, Glen Burnie, MD 21061 | 04/07/03 | Precision machined parts for satellite communication and telecommunication.
ASKO, Inc | P. O. Box 355, Homestead, PA 15120 | 04/07/03 | Shear knives, blades and tooling.
OAR Tool & Die, Inc., dba OAR Moldworks | 145 Carolina Avenue, Providence, RI 02905 | 04/14/03 | Injection molds for plastics and soft- and hard-tool prototype injection molds.
Cox Wholesale Seafood, Inc | 5806 N. Occident Street, Tampa, FL 33614 | 04/02/03 | Shrimp.
Wall Industries, Inc | 1615 N. Lee Street, Spencer, NC 28159 | 04/11/03 | Rope of synthetic braided fibers.
Cabrito Market, Inc | ¾ Mile N. Bentsen Palm Drive, Mission, TX 78572 | 04/10/03 | Goat meat.
Precise Cables, Inc | 1567 Skyway Drive, Longmont, CO 80504 | 04/07/03 | Custom cables and cable harnesses.
Tibor Machine Products, Inc | 6350 West Birmingham, Chicago Ridge, IL 60415 | 04/09/03 | Precision machined metal components of engines and drive axels for construction and off-highway vehicles.
Dynamic Tool & Design, Inc | W133 N5180 Campbell Drive, Menomonee Falls, WI 53051 | 04/11/03 | Injection molds for plastics.
Ray Products, Inc | 1212 Corporate Drive, Parsons, KS 67357 | 04/09/03 | Paperboard boxes and cartons.
Heartland Fabrication and Machine, Inc | 1695 SE Decker Street, Lee's Summit, MO 64081 | 04/14/03 | Aluminum parts for pump housings and valves.
Howell Foundry, L.L.C | P. O. Box 2487, St. Francisville, LA 70775 | 04/15/03 | Components for pumps for use in pulp and paper production.
Haynes Corporation | 3581 Mercantile Avenue, Naples, FL 34104 | 04/15/03 | Components for fuel-injection pumps for compression-injection engines.
B & W Oilfield Manufacturing, Inc | 1333 SE 25th Street, Oklahoma City, OK 73129 | 04/22/03 | Flanges and flange support parts.
James Kyle dba F/V Home Shore | 4102 Linnell Road, Deming, WA 98224 | 04/22/03 | Salmon.
Megan Corazza dba F/V Sonya M | P.O. Box 1320, Homer, AK 99603 | 04/22/03 | Salmon.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: April 29, 2003.
Brenda A. Johnson,
Technical Assistance Specialist, Planning and Development Assistance Division.

[FR Doc. 03-10972 Filed 5-2-03; 8:45 am]

BILLING CODE 3510-24-P